DEPARTMENT OF TRANSPORTATION

Office of the Secretary of Transportation

[Docket No. DOT-OST-2016-0016]

Notice of Funding Opportunity for the Department of Transportation's Nationally Significant Freight and Highway Projects (FASTLANE Grants) for Fiscal Year 2017

AGENCY: Office of the Secretary of Transportation, U.S. Department of Transportation.

ACTION: Notice of funding opportunity.

SUMMARY: The Fixing America's Surface Transportation Act (FAST Act) established the Nationally Significant Freight and Highway Projects (NSFHP) program to provide Federal financial assistance to projects of national or regional significance and authorized the program at $4.5 billion for fiscal years (FY) 2016 through 2020, including $850 million for FY 2017 to be awarded by the Secretary of Transportation. The U.S. Department of Transportation (USDOT/Department) will also refer to NSFHP grants as Fostering Advancements in Shipping and Transportation for the Long-term Achievement of National Efficiencies (FASTLANE) grants. The purpose of this notice is to solicit applications for FY 2017 grants for the FASTLANE program. The Department also invites interested parties to submit comments about this notice's contents to public docket DOT-OST-2016-0016 by December 31, 2016.

DATES: Applications must be submitted by 8:00 p.m. EST on December 15, 2016. The Grants.gov “Apply” function will open by November 14, 2016.

ADDRESSES: Applications must be submitted through www.Grants.gov. Only applicants who comply with all submission requirements described in this notice and submit applications through www.Grants.gov will be eligible for award.

FOR FURTHER INFORMATION CONTACT: For further information concerning this notice, please contact the Office of the Secretary via email at FASTLANEgrants@dot.gov. For more information about highway projects, please contact Crystal Jones at (202) 366-2976. For more information about maritime projects, please contact Robert Bouchard at (202) 366-5076. For more information about rail projects, please contact Stephanie Lawrence at (202) 493-1376. For all other questions, please contact Howard Hill at (202) 366-0301. A TDD is available for individuals who are deaf or hard of hearing at 202-366-3993. Additionally, the Department will regularly post answers to questions and requests for clarifications as well as information about webinars for further guidance on USDOT's Web site at https://www.transportation.gov/buildamerica/FASTLANEgrants.

SUPPLEMENTARY INFORMATION: This notice solicits applications for the FASTLANE program for FY 2017. Each section of this notice contains information and instructions relevant to the application process for FASTLANE grants, and the applicant should read this notice in its entirety to submit eligible and competitive applications.

Table of Contents

A. Program Description

B. Federal Award Information

1. Amount Available

2. Eligible Uses

3. Other Restrictions

4. Repeat Applications

C. Eligibility Information

1. Eligible Applicants

2. Cost Sharing or Matching

3. Other

i. Eligible Project

ii. Eligible Project Costs

iii. Minimum Project Size Requirement

a. Large Projects

b. Small Projects

iv. Rural/Urban Area

v. Application Limit

vi. Project Components

D. Application and Submission Information

1. Address

2. Content and Form of Application

i. Cover Page

ii. Summary of Changes

iii. Project Narrative

a. Project Description

b. Project Location

c. Project Parties

d. Grants Funds, Sources, and Uses of Project Funds

e. Cost Effectiveness

f. Project Readiness

3. Unique Entity Identifier and System for Award Management (SAM)

4. Submission Date and Timelines

i. Deadline

ii. Consideration of Application

iii. Late Applications

iv. Late Application Policy

E. Application Review Information

1. Criteria

i. Merit Criteria

a. Economic Outcomes

b. Mobility Outcomes

c. Safety Outcomes

d. Community and Environmental Outcomes

ii. Other Review Criteria

a. Partnership and Innovation

b. Cost Share

iii. Large/Small Project Requirements

2. Review and Selection Process

i. USDOT Review

3. Additional Information

F. Federal Award Administration Information

1. Federal Award Notices

2. Administrative and National Policy Requirements

3. Reporting

i. Progress Reporting on Grant Activity

ii. Reporting of Matters Related to Integrity and Performance

G. Federal Awarding Agency Contacts

H. Other Information

1. Invitation for Public Comment on the FY 2017 Notice

2. Response to Comments From the FY 2016 Notice

3. Protection of Confidential Business Information

A. Program Description

The Nationally Significant Freight and Highway Projects (NSFHP) program, as established by the Fixing America's Surface Transportation Act (FAST Act), Public Law 114-94, section 1105 (23 U.S.C. 117), will provide Federal financial assistance to freight and highway projects of national or regional significance. The Department will also refer to NSFHP grants as Fostering Advancements in Shipping and Transportation for the Long-term Achievement of National Efficiencies (FASTLANE) grants. The FASTLANE program provides dedicated, discretionary funding for projects that address critical freight issues facing our nation's highways and bridges, and for the first time in the U.S. Department of Transportation's 50-year history, establishes broad, multiyear eligibilities for freight infrastructure.

To better adapt to national and regional population growth, compete in the global economy, and meet the needs of consumers and industry, the United States needs a strong multimodal transportation system. Beyond Traffic 2045: Trends and Choices (Beyond Traffic),¹ the Department's 30-year framework for the future, outlines changing local and global patterns, including population and employment growth in burgeoning megaregions and significant growth in freight movement by ton and value. The report affirms the need to address freight bottlenecks that severely constrain system performance and capacity. The Department's draft National Freight Strategic Plan,² released in October 2015, further explores these challenges for freight transportation and identifies strategies to address impediments to the flow of goods throughout the nation.

¹ https://www.transportation.gov/BeyondTraffic.

² https://www.transportation.gov/freight/NFSP.

The FASTLANE program provides an opportunity to address nationally or regionally significant challenges across the nation's transportation system including improving the safety, efficiency, and reliability of the movement of freight and people; generating national or regional economic benefits and increasing the United States' global competitiveness; reducing highway congestion and bottlenecks; enabling more efficient intermodal connections; minimizing delays at international borders; improving inadequate first and last mile segments; modernizing port facilities to meet 21st Century demands, including connections between ports and their surface transportation systems; enhancing the resiliency of critical intermodal infrastructure and helping protect the environment; improving grade crossings; improving roadways vital to national energy security; and addressing the impact of population growth on the movement of people and freight. The program also offers resources to advance highway and bridge projects on the National Highway System (NHS), including those that improve mobility through added capacity on the Interstate or address needs in a national scenic area. Recognizing the interconnected and multimodal nature of the nation's transportation system, the Department will give additional consideration to nationally or regionally significant multimodal and multijurisdictional projects.

The Department will also consider whether projects enhance personal mobility and accessibility. Such projects include, but are not limited to, investments that better connect people to essential services such as employment centers, health care, schools and education facilities, healthy food, and recreation; remove physical or operational barriers to access; strengthen communities through neighborhood redevelopment; mitigate the negative impacts of freight movement on communities—such as road or railroad crossing congestion; and support workforce development, particularly for disadvantaged groups, which include low-income groups, persons with visible and hidden disabilities, elderly individuals, and minority persons and populations. The Department may consider whether a project's design is likely to generate benefits for all users of the proposed project, including non-driving members of a community adjacent to or affected by the project.

B. Federal Award Information

1. Amount Available

The FAST Act authorizes the FASTLANE program at $4.5 billion for fiscal years (FY) 2016 through 2020, including $850 million ³ for FY 2017 to be awarded by USDOT on a competitive basis to projects of national or regional significance that meet statutory requirements. The funding described in this notice is authorized for FY 2017 in FAST Act Section 1101(a)(5). The amount that will be available for awards is uncertain because the Department is issuing this notice before full-year appropriations legislation has been enacted for FY 2017. The Department anticipates that up to approximately $787 million will be available for awards. But that estimate may be higher or lower than the final amount, which is dependent on future appropriations legislation. Any award selections under this notice will be subject to the availability of funds.

³ Funds are subject to the overall Federal-aid highway obligation limitation, and funds in excess of the obligation limitation provided to the program are distributed to the States. While $850 million is authorized for FY 2017, DOT estimates that approximately $787 million will be available for award. For additional information see FAST Act § 1102 (f) and the Transportation, Housing and Urban Development, and Related Agencies Appropriations Act, 2016, Public Law 114-113, div. L § 120. Applicants should note that the provisions of the FY2016 appropriations act are only illustrative and may differ from what will be enacted in a full year FY 2017 appropriations act.

While the Department is initiating the process of soliciting applications for FY 2017, awards will be subject to the availability of funding; the Department is currently operating under a Continuing Resolution, and the obligation limitation distribution for the balance of the Fiscal Year will depend on Congressional action. However, as obligation limitation associated with this program currently expires at the end of the Fiscal Year, the Department is now beginning the process of soliciting applications to facilitate the possibility of awards with sufficient time for grantees to obligate in advance of peak construction season, while accounting for the requirement that the Department notify Congressional Committees 60 days ahead of awards.

2. Eligible Uses

FASTLANE grants may be used for the construction, reconstruction, rehabilitation, acquisition of property (including land related to the project and improvements to the land), environmental mitigation, construction contingencies, equipment acquisition, and operational improvements directly related to system performance. FASTLANE grants may also fund developmental phase activities, including planning, feasibility analysis, revenue forecasting, environmental review, preliminary engineering, design, and other preconstruction activities, provided the project meets statutory requirements.

The FAST Act allows a FASTLANE grant recipient to use FASTLANE funds granted to pay the subsidy and administrative costs necessary to receive credit assistance for the associated project under the Transportation Infrastructure Finance and Innovation Act of 1998 (“TIFIA”) program.

3. Other Restrictions

The Department will make awards under the FASTLANE program to both large and small projects. (Refer to section C.3.ii.for a definition of large and small projects.) For large projects, the FAST Act specifies that FASTLANE grants must be at least $25 million. For small projects, the grants must be at least $5 million. For both large and small projects, maximum FASTLANE awards may not exceed 60 percent of future eligible project costs. While 10 percent of available funds are reserved for small projects, 90 percent of funds are reserved for large projects. Applicants are strongly encouraged to submit applications only for eligible award amounts.

Pursuant to the FAST Act, not more than $500 million in aggregate of the $4.5 billion authorized for FASTLANE grants over fiscal years 2016 to 2020 may be used for grants to freight rail, water (including ports), or other freight intermodal projects that make significant improvements to freight movement on the National Highway Freight Network. After accounting for FY 2016 FASTLANE awards, approximately $326 million within this constraint remains available. Only the non-highway portion(s) of multimodal projects count toward the $500 million maximum. Improving freight movement on the National Highway Freight Network may include shifting freight transportation to other modes, thereby reducing congestion and bottlenecks on the National Highway Freight Network. The Federal share for projects that count toward the $500 million maximum may fund only elements of the project that provide public benefit. Grade crossing and grade separation projects do not count toward the $500 million maximum for freight rail, port, and intermodal projects.

The FAST Act directs at least 25 percent of the funds provided for FASTLANE grants must be used for projects located in rural areas, as defined in Section C.3.iv. If the Department does not receive enough qualified applications to fully award the 25 percent reserved for rural projects, the Department may use the excess funding for non-rural awards. The USDOT must consider geographic diversity among grant recipients, including the need for a balance in addressing the needs of urban and rural areas.

4. Repeat Applications

In response to the FY 2016 FASTLANE solicitation (81 FR 10955), USDOT received applications for more eligible, excellent projects than could be funded in the first year of the program. Because the evaluation criteria described in this notice do not differ from the criteria in the FY 2016 solicitation and because USDOT requires applications to be submitted within 45 days of this notice, USDOT anticipates that some FY 2016 applicants who did not receive FY 2016 awards will resubmit their applications with few or no changes. If an applicant is re-applying for a project for which that applicant applied for FY 2016 funds and was not awarded, the applicant should highlight new or revised information in the application. This will improve the evaluation process by allowing USDOT to avoid redundant evaluations and focus evaluation resources on new information. To the extent that a resubmitted application contains few or no changes, USDOT may rely on previous analysis when considering the project for a FY 2017 award.

C. Eligibility Information

To be selected for an FASTLANE grant, an applicant must be an Eligible Applicant and the project must be an Eligible Project that meets the Minimum Project Size Requirement.

1. Eligible Applicants

Eligible applicants for FASTLANE grants are (1) a State or group of States; (2) a metropolitan planning organization that serves an Urbanized Area (as defined by the Bureau of the Census) with a population of more than 200,000 individuals; (3) a unit of local government or group of local governments; (4) a political subdivision of a State or local government; (5) a special purpose district or public authority with a transportation function, including a port authority; (6) a Federal land management agency that applies jointly with a State or group of States; (7) a tribal government or a consortium of tribal governments; or (8) a multi-State or multijurisdictional group of public entities. Multiple States or jurisdictions that submit a joint application should identify a lead applicant as the primary point of contact. Each applicant in a joint application must be an Eligible Applicant. Joint applications should include a description of the roles and responsibilities of each applicant and should be signed by each applicant.

2. Cost Sharing or Matching

FASTLANE grants may be used for up to 60 percent of future eligible project costs. Other Federal assistance may satisfy the non-Federal share requirement for a FASTLANE grant, but total Federal assistance for a project receiving a FASTLANE grant may not exceed 80 percent of the future eligible project costs. Non-Federal sources include State funds originating from programs funded by State revenue, local funds originating from State or local revenue funded programs, private funds or other funding sources of non-Federal origins. If a Federal land management agency applies jointly with a State or group of States, and that agency carries out the project, then Federal funds that were not made available under titles 23 or 49 of the United States Code may be used for the non-Federal share. Unless otherwise authorized by statute, local cost-share may not be counted as non-Federal share for both the FASTLANE and another Federal program. For any project, the Department cannot consider previously incurred costs or previously expended or encumbered funds towards the matching requirement. Matching funds are subject to the same Federal requirements described in Section F.2 as awarded funds.

3. Other

i. Eligible Project

Eligible projects for FASTLANE grants are: Highway freight projects carried out on the National Highway Freight Network (23 U.S.C. 167); highway or bridge projects carried out on the NHS, including projects that add capacity on the Interstate System to improve mobility or projects in a national scenic area; railway-highway grade crossing or grade separation projects; or a freight project that is (1) an intermodal or rail project, or (2) within the boundaries of a public or private freight rail, water (including ports), or intermodal facility. A project within the boundaries of a freight rail, water (including ports), or intermodal facility must be a surface transportation infrastructure project necessary to facilitate direct intermodal interchange, transfer, or access into or out of the facility and must significantly improve freight movement on the National Highway Freight Network. For a freight project within the boundaries of a freight rail, water (including ports), or intermodal facility, Federal funds can only support project elements that provide public benefits.

ii. Eligible Project Costs

Eligible costs under the FASTLANE program include development phase activities, including planning, feasibility analysis, revenue forecasting, environmental review, preliminary engineering and design work, and other pre-construction activities, as well as construction, reconstruction, rehabilitation, acquisition of real property, environmental mitigation, construction contingencies, acquisition of equipment, and operational improvements directly related to system performance.

iii. Minimum Project Size Requirement

For the purposes of determining whether a project meets the minimum project size requirement, the Department will count all future eligible project costs under the award and some related costs incurred before selection for an FASTLANE grant. Previously incurred costs will be counted toward the minimum project size requirement only if they were eligible project costs under Section C.3.ii. and were expended as part of the project for which the applicant seeks funds. Although those previously incurred costs may be used for meeting the minimum project size thresholds described in this Section, they cannot be reimbursed with FASTLANE grant funds, nor will the count toward the project's required non-Federal share.

a. Large Projects

The minimum project size for large projects is the lesser of $100 million; 30 percent of a State's FY 2016 Federal-aid apportionment if the project is located in one State; or 50 percent of the larger participating State's FY 2016 apportionment for projects located in more than one State. The following chart identifies the minimum total project cost for projects for FY 2017 for both single and multi-State projects.

State | One-State minimum (millions) | Multi-State minimum * (millions)
Alabama | $100 | $100
Alaska | 100 | 100
Arizona | 100 | 100
Arkansas | 100 | 100
California | 100 | 100
Colorado | 100 | 100
Connecticut | 100 | 100
Delaware | 51 | 86
Dist. of Col. | 49 | 81
Florida | 100 | 100
Georgia | 100 | 100
Hawaii | 51 | 86
Idaho | 87 | 100
Illinois | 100 | 100
Indiana | 100 | 100
Iowa | 100 | 100
Kansas | 100 | 100
Kentucky | 100 | 100
Louisiana | 100 | 100
Maine | 56 | 94
Maryland | 100 | 100
Massachusetts | 100 | 100
Michigan | 100 | 100
Minnesota | 100 | 100
Mississippi | 100 | 100
Missouri | 100 | 100
Montana | 100 | 100
Nebraska | 88 | 100
Nevada | 100 | 100
New Hampshire | 50 | 84
New Jersey | 100 | 100
New Mexico | 100 | 100
New York | 100 | 100
North Carolina | 100 | 100
North Dakota | 76 | 100
Ohio | 100 | 100
Oklahoma | 100 | 100
Oregon | 100 | 100
Pennsylvania | 100 | 100
Puerto Rico | 47 | 74
Rhode Island | 67 | 100
South Carolina | 100 | 100
South Dakota | 86 | 100
Tennessee | 100 | 100
Texas | 100 | 100
Utah | 100 | 100
Vermont | 62 | 100
Virginia | 100 | 100
Washington | 100 | 100
West Virginia | 100 | 100
Wisconsin | 100 | 100
Wyoming | 78 | 100
* For multi-State projects, the minimum project size is the largest of the multi-State minimums from the participating States.

b. Small Projects

A small project is an eligible project that does not meet the minimum project size described in Section C.3.iii.a.

iv. Rural/Urban Area

The FASTLANE statute defines a rural area as an area outside an Urbanized Area ⁴ with a population of over 200,000. In this notice, urban area is defined as inside an Urbanized Area, as a designated by the U.S. Census Bureau, with a population of 200,000 or more.⁵ Cost share requirements and minimum grant awards are the same for projects located in rural and urban areas. The Department will consider a project to be in a rural area if the majority of the project (determined by geographic location(s) where the majority of the money is to be spent) is located in a rural area. Rural and urban definitions differ in some other USDOT programs, including TIFIA and the FY 2016 TIGER Discretionary Grants Program.

⁴ For Census 2010, the Census Bureau defined an Urbanized Area (UA) as an area that consists of densely settled territory that contains 50,000 or more people. Updated lists of UAs are available on the Census Bureau Web site at http://www2.census.gov/geo/maps/dc10map/UAUC_RefMap/ua/. For the purposes of the FASTLANE program, Urbanized Areas with populations fewer than 200,000 will be considered rural.

⁵ See www.transportation.gov/FASTLANEgrants for a list of Urbanized Areas with a population of 200,000 or more.

v. Application Limit

To encourage applicants to prioritize their FASTLANE submissions, each eligible applicant may submit no more than three applications. The three-application limit applies only to applications where the applicant is the lead applicant. There is no limit on applications for which an applicant can be listed as a partnering agency. If a lead applicant submits more than three applications as the lead applicant, only the first three received will be considered.

vi. Project Components

An application may describe a project that contains more than one component, and may describe components that may be carried out by parties other than the applicant. Applicants should clearly identify all highway, bridge, and freight-related components comprising the total project. The USDOT may award funds for a component, instead of the larger project, if that component (1) independently meets minimum award amounts described in Section B and all eligibility requirements described in Section C; (2) independently aligns well with the selection criteria specified in Section E; and (3) meets National Environmental Policy Act (NEPA) requirements with respect to independent utility. Independent utility means that the component will represent a transportation improvement that is usable and represents a reasonable expenditure of USDOT funds even if no other improvements are made in the area, and will be ready for intended use upon completion of that component's construction. All project components that are presented together in a single application must demonstrate a relationship or connection with one another. (See Section D.2.f. for Required Approvals).

Applicants should be aware that, depending upon the relationship between project components and upon applicable Federal law, USDOT funding of only some project components may make other project components subject to Federal requirements as described in Section F.2.

The USDOT strongly encourages applicants to identify in their applications the project components that have independent utility and separately detail costs and requested FASTLANE funding for each component. If the application identifies one or more independent project components, the application should clearly identify how each independent component addresses selection criteria and produces benefits on its own, in addition to describing how the full proposal of which the independent component is a part addresses selection criteria.

D. Application and Submission Information

1. Address

Applications must be submitted through www.Grants.gov. Instructions for submitting applications can be found at https://www.transportation.gov/buildamerica/FASTLANEgrants.

2. Content and Form of Application

The application must include the Standard Form 424 (Application for Federal Assistance), Standard Form 424C (Budget Information for Construction Programs), cover page, and the Project Narrative. More detailed information about the cover page and Project Narrative follows.

i. Cover Page Including the Following Chart

Project name |
Was a FASTLANE application for this project submitted previously? | Yes/no.
If yes, what was the name of the project in the previous application?
Previously Incurred Project Cost | $.
Future Eligible Project Cost | $.
Total Project Cost | $.
FASTLANE Request | $.
Total Federal Funding (including FASTLANE) | $.
Are matching funds restricted to a specific project component? If so, which one? | Yes/no.
Is the project or a portion of the project currently located on National Highway Freight Network? | Yes/no.
Is the project or a portion of the project located on the NHS? | Yes/no (for each question).
• Does the project add capacity to the Interstate system?
• Is the project in a national scenic area?
Do the project components include a railway-highway grade crossing or grade separation project? | Yes/no.
• If so, please include the grade crossing ID.
Do the project components include an intermodal or freight rail project, or freight project within the boundaries of a public or private freight rail, water (including ports), or intermodal facility? | Yes/no.
If answered yes to either of the two component questions above, how much of requested FASTLANE funds will be spent on each of these projects components?
State(s) in which project is located
Small or large project | Small/Large.
Urbanized Area in which project is located, if applicable
Population of Urbanized Area
Is the project currently programmed in the:
• TIP • STIP • MPO Long Range Transportation Plan • State Long Range Transportation Plan • State Freight Plan? | Yes/no (please specify in which plans the project is currently programmed).

ii. Summary of Changes

If a FASTLANE application for this project was previously submitted, please describe any changes between the FY 2016 and FY 2017 applications. The changes should be summarized on a single page following the Cover Page AND highlighted throughout the application on a section-by-section basis. Because the evaluation criteria described in this notice do not differ from the criteria in the FY 2016 solicitation and because USDOT requires applications to be submitted within 45 days of this notice, USDOT anticipates that some FY 2016 applicants who did not receive FY 2016 awards will resubmit their applications with few or no changes.

iii. Project Narrative

The USDOT recommends that the project narrative adhere to the following basic outline to clearly address the program requirements and make critical information readily apparent:

I. Project Description | See D.2.iii.a.
II. Project Location | See D.2.iii.b.
III. Project Parties | See D.2.iii.c.
IV. Sources and Uses of all Project Funding | See D.2.iii.d.
V. Merit Criteria | See E.1.i. a,b,c,d and E.1.ii.a.b.
VI. Large/Small Project Requirements | See E.1.iii.
VII. Cost Effectiveness | See D.2.iii.e.
VIII. Project Readiness | See D.2.iii.f.

The application should include information required for USDOT to determine that the project satisfies project requirements described in Sections B and C and to assess the selection criteria specified in Section E.1. To the extent practicable, applicants should provide data and evidence of project merits in a form that is verifiable or publicly available. The USDOT may ask any applicant to supplement data in its application, but expects applications to be complete upon submission.

In addition to a detailed statement of work, detailed project schedule, and detailed project budget, the project narrative should include a table of contents, maps, and graphics, as appropriate to make the information easier to review. The USDOT recommends that the project narrative be prepared with standard formatting preferences. (i.e., a single-spaced document, using a standard 12-point font such as Times New Roman, with 1-inch margins.) The project narrative may not exceed 25 pages in length, excluding cover pages and table of contents. The only substantive portions that may exceed the 25-page limit are supporting documents to support assertions or conclusions made in the 25-page project narrative. If possible, Web site links to supporting documentation should be provided rather than copies of these supporting materials. If supporting documents are submitted, applicants should clearly identify within the project narrative the relevant portion of the project narrative that each supporting document supports. At the applicant's discretion, relevant materials provided previously to a modal administration in support of a different USDOT financial assistance program may be referenced and described as unchanged. The USDOT recommends using appropriately descriptive final names (e.g., “Project Narrative,” “Maps,” “Memoranda of Understanding and Letters of Support,” etc.) for all attachments. The USDOT recommends applications include the following sections:

a. Project Description including a description of the project size, including previously incurred expenses, to show the project meets minimum project size requirements, a description of what requested FASTLANE and matching funds will support, how the project is nationally or regionally significant, information on the expected users of the project, a description of the transportation challenges the project aims to address, and how the project will address these challenges. The description should include relevant data for before and after the project is built, such as passenger and freight volumes, congestion levels, infrastructure condition, and safety experience, including citations for data sources. Examples of potentially relevant data can be found at www.transportation.gov/FASTLANEgrants, but USDOT encourages applicants to identify the most relevant information for their project.

b. Project Location including a detailed description of the proposed project and geospatial data for the project, as well as a map of the project's location and its connections to existing transportation infrastructure. If the project is located within the boundary of a Census-designated Urbanized Area, the application should identify the Urbanized Area.

c. Project Parties including information about the grant recipient and other affected public and private parties who are involved in delivering the project, such as port authorities, terminal operators, freight railroads, shippers, carriers, freight-related associations, third-party logistics providers, and the freight industry workforce.

d. Grant Funds, Sources and Uses of Project Funds including information to demonstrate the viability and completeness of the project's financing package, assuming the availability of the requested FASTLANE grant funds. The applicant should show evidence of stable and reliable capital and (as appropriate) operating fund commitments sufficient to cover estimated costs; the availability of contingency reserves should planned capital or operating revenue sources not materialize; evidence of the financial condition of the project sponsor; and evidence of the grant recipient's ability to manage grants. At a minimum, applicants should include:

(i) Future eligible cost, as defined in Section C.3.ii-iii.

(ii) Availability and commitment of all committed and expected funding sources and uses of all project funds for future eligible project costs, including the identity of all parties providing funds for the project and their percentage shares; any restrictions attached to specific funds; compliance or a schedule for compliance with all conditions applicable to each funding source, and, to the extent possible, funding commitment letters from non-Federal sources.

(iii) Federal funds already provided and the size, nature, and source of the required match for those funds, as well as pending or past Federal funding requests for the project. This information should demonstrate that the requested FASTLANE funds do not exceed 60 percent of future eligible project costs and that total Federal funding will not exceed 80 percent of future eligible project costs. This information should also show that local share for the FASTLANE grant is not counted as the matching requirement for another Federal program.

(iv) A detailed project budget containing a breakdown of how the funds will be spent. That budget should estimate—both dollar amount and percentage of cost—the cost of work for each project component. If the project will be completed in individual segments or phases, a budget for each individual segment or phase should be included. Budget spending categories should be broken down between FASTLANE, other Federal, and non-Federal sources, and this breakdown should also identify how each funding source will share in each activity.

(v) Amount of requested FASTLANE funds that will be spent on highway, bridge, freight intermodal or freight rail, port, grade crossing or grades separation project components.

e. Cost-Effectiveness analysis should demonstrate that the project is likely to deliver its anticipated benefits at reasonable costs. Applicants should delineate each of their project's expected outputs and costs in the form of a complete Benefit-Cost Analysis (BCA) to enable the Department to consider cost-effectiveness (small projects) or determine whether the project is cost effective (for large projects). The primary economic benefits from projects eligible for FASTLANE grants are likely to include time savings for passenger travel and freight shipments, improvements in transportation safety, reduced damages from emissions of greenhouse gases and criteria air pollutants, and savings in maintenance costs to public agencies. Applicants should submit a BCA in support of each project for which they seek funding that quantifies each of these benefits, provides monetary estimates of their economic value, and compares the properly-discounted present values of these benefits to the project's estimated costs. Where applicants cannot adequately monetize benefits, they are urged to identify non-monetary measures for other categories of benefits (examples below) to assist the Department in making cost-effectiveness and other determinations about projects.

Many projects are likely to generate other categories of benefits that are more difficult to quantify and value in economic terms, but are nevertheless important considerations in determining whether a proposed project is cost-effective. These may include impacts such as improving the reliability of passenger travel times or freight deliveries, improvements to the existing human and natural environments surrounding the project, increased connectivity, access, and mobility, benefits to public health, stormwater runoff mitigation, and noise reduction. Applicants should identify each category of impact or benefits that is not already included in the estimated dollar value of their project's benefits (as described above), and wherever possible provide numerical estimates of the magnitude and timing of each of these additional impacts.

For the purpose of evaluating cost-effectiveness, project costs should include those for constructing, operating, and maintaining the proposed project, including a detailed breakdown of those costs by spending category and the expected timing or schedule for costs in each category.

To assist in USDOT's cost-effectiveness evaluation, applicants should provide all relevant files used for their BCA, including any spreadsheet files and technical memos describing the analysis (whether created in-house or by a contractor). The spreadsheets and technical memos should present the calculations in sufficient detail to allow the analysis to be reproduced by USDOT evaluators. Detailed guidance for estimating some types of quantitative benefits and costs, together with recommended economic values for converting them to dollar terms and discounting to their present values, are available in USDOT's guidance for conducting BCAs for projects seeking funding under the FASTLANE program (see https://www.transportation.gov/buildamerica/FASTLANEgrants).

Applicants for freight projects within the boundaries of a freight rail, water (including ports), or intermodal facility should also quantify the benefits of their proposed projects for freight movements on the National Highway Freight Network, and should demonstrate that the Federal share of the project funds only elements of the project that provide public benefits.

f. Project Readiness including information to demonstrate that the project is reasonably expected to begin construction in a timely manner. For a large project, the Department cannot award a project that is not reasonably expected to begin construction within 18 months of obligation of funds for the project. The Department will determine that large projects with an obligation date beyond September 30, 2020 are not reasonably expected to begin construction within 18 months of obligation. Obligation occurs when a selected applicant and USDOT enter a written, project-specific agreement and is generally after the applicant has satisfied applicable administrative requirements, including transportation planning and environmental review requirements. Depending on the nature of pre-construction activities included in the awarded project, the Department may obligate funds in phases.

Preliminary engineering and right-of-way acquisition activities, such as environmental review, design work, and other preconstruction activities, do not fulfill the requirement to begin construction within 18 months of obligation for large projects.

To assist the Department's project readiness determination, the Department will consider information provided in this Section D.2.ii.d. (Grant Funds, Sources and Uses of Project Funds) in addition to the following information:

(i) Technical Feasibility. The technical feasibility of the project should be demonstrated by engineering and design studies and activities; the development of design criteria and/or a basis of design; the basis for the cost estimate presented in the FASTLANE application, including the identification of contingency levels appropriate to its level of design; and any scope, schedule, and budget risk-mitigation measures. Applicants should include a detailed statement of work that focuses on the technical and engineering aspects of the project and describes in detail the project to be constructed.

(ii) Project Schedule. The applicant should include a detailed project schedule that identifies all major project milestones. Examples of such milestones include State and local planning approvals (programming on the STIP), start and completion of NEPA and other environmental reviews and approvals including permitting; design completion; right of way acquisition; approval of plan, specification and estimate (PS&E); procurement; State and local approvals; project partnership and implementation agreements including agreements with railroads; and construction. The project schedule should be sufficiently detailed to demonstrate that:

(a) All necessary activities will be complete to allow grant funds to be obligated sufficiently in advance of the statutory deadline, and that any unexpected delays will not put the funds at risk of expiring before they are obligated;

(b) the project can begin construction quickly upon receipt of a FASTLANE grant, and that the grant funds will be spent expeditiously once construction starts; and

(c) all property and/or right-of-way acquisition will be completed in a timely manner in accordance with 49 CFR part 24 and other legal requirements or a statement that no acquisition is necessary.

(iii) Required Approvals

(a) Environmental Permits and Reviews: As noted in Section D.2.ii.f.iii above, the application should demonstrate receipt (or reasonably anticipated receipt) of all environmental approvals and permits necessary for the project to proceed to construction on the timeline specified in the project schedule and necessary to meet the statutory obligation deadline, including satisfaction of all Federal, State and local requirements and completion of the NEPA process. Although Section C.3.vi (Project Components) of this notice encourages applicants to identify independent project components, those components may not be separable for the NEPA process. In such cases, the NEPA review for the independent project component may have to include evaluation of all project components as connected, similar, or cumulative actions, as detailed at 40 CFR 1508.25. In addition, the scope of the NEPA decision may affect the applicability of the Federal requirements on the project described in the application. Specifically, the application should include:

(1) Information about the NEPA status of the project. If the NEPA process is completed, an applicant should indicate the date of, and provide a Web site link or other reference to the final Categorical Exclusion, Finding of No Significant Impact, Record of Decision, or any other NEPA documents prepared. If the NEPA process is underway but not complete, the application should detail the type of NEPA review underway, where the project is in the process, and indicate the anticipated date of completion of all milestones and of the final NEPA determination. If the NEPA documents are approaching ten years old, the applicant should include a proposed approach for updating this material.

(2) Information on reviews, approvals, and permits by other agencies. An application should indicate whether the proposed project requires reviews or approval actions by other agencies,⁶ indicate the status of such actions, and provide detailed information about the status of those reviews or approvals and or demonstrate compliance with any other applicable Federal, State, or local requirements. Applicants should provide a Web site link or other reference to copies of any reviews, approvals, and permits prepared.

⁶ Projects that may impact protected resources such as wetlands, species habitat, cultural or historic resources require review and approval by Federal and State agencies with jurisdiction over those resources.

(3) Environmental studies or other documents—preferably through a Web site link—that describe in detail known project impacts, and possible mitigation for those impacts.

(4) A description of discussions with the appropriate USDOT modal administration field or headquarters office regarding compliance with NEPA and other applicable environmental reviews and approvals.

(5) A description of public engagement to date about the project including the degree to which public comments and commitments have been integrated into project development and design.

b. State and Local Approvals. The applicant should demonstrate receipt of State and local approvals on which the project depends, such as local government funding commitments or TIF approval. Additional support from relevant State and local officials is not required; however, an applicant should demonstrate that the project is broadly supported.

c. State and Local Planning. The planning requirements of the operating administration administering the FASTLANE project will apply,⁷ including intermodal projects located at airport facilities.⁸ Applicants should demonstrate that a project that is required to be included in the relevant State, metropolitan, and local planning documents has been or will be included. If the project is not included in the relevant planning documents at the time the application is submitted, the applicant should submit a statement from the appropriate planning agency that actions are underway to include the project in the relevant planning document.

⁷ In accordance with 23 U.S.C. 134 and 135, all projects requiring an action by the Federal Highway Administration (FHWA) must be in the metropolitan transportation plan, transportation improvement program (TIP) and statewide transportation improvement program (STIP). Further, in air quality non-attainment and maintenance areas, all regionally significant projects, regardless of the funding source, must be included in the conforming metropolitan transportation plan and TIP. To the extent a project is required to be on a metropolitan transportation plan, TIP, and/or STIP, it will not receive a FASTLANE grant until it is included in such plans. Projects not currently included in these plans can be amended by the State and metropolitan planning organization (MPO). Projects that are not required to be in long range transportation plans, STIPs, and TIPs will not need to be included in such plans in order to receive a FASTLANE grant. Port, freight rail, and intermodal projects are not required to be on the State Rail Plans called for in the Passenger Rail Investment and Improvement Act of 2008. However, applicants seeking funding for freight projects are encouraged to demonstrate that they have done sufficient planning to ensure that projects fit into a prioritized list of capital needs and are consistent with long-range goals. Means of demonstrating this consistency would to include the projects in TIPs or a State Freight Plan that conforms to the requirements Section 70202 of Title 49 prior to the start of construction. Port planning guidelines are available at StrongPorts.gov.

⁸ Projects at grant obligated airports, must be compatible with the FAA-approved Airport Layout Plan (ALP), as well as aeronautical surfaces associated with the landing and takeoff of aircraft at the airport. Additionally, projects at an airport: must comply with established Sponsor Grant Assurances, including (but not limited to) requirements for non-exclusive use facilities, consultation with users, consistency with local plans including development of the area surrounding the airport, and consideration of the interest of nearby communities, among others; and must not adversely affect the continued and unhindered access of passengers to the terminal.

To the extent possible, freight projects should be included in a State Freight Plan and supported by a State Freight Advisory Committee (49 U.S.C. 70201, 70202). Applicants should provide links or other documentation supporting this consideration.

Because projects have different schedules, the construction start date for each FASTLANE grant will be specified in the project-specific agreements signed by relevant modal administration and the grant recipients and will be based on critical path items identified by applicants in response to items (iv)(a) through (c) above, and be consistent with other relevant State or local plan, including bicycle and pedestrian plans, economic development plans, local land-use plans, and water and coastal zone management plans.

(iv) Assessment of Project Risks and Mitigation Strategies. Project risks, such as procurement delays, environmental uncertainties, increases in real estate acquisition costs, uncommitted local match, or lack of legislative approval, affect the likelihood of successful project start and completion. The applicant should identify the material risks to the project and the strategies that the lead applicant and any project partners have undertaken or will undertake in order to mitigate those risks. Information provided in response to Section D.2.ii.f.i-iv above should be referenced in developing this assessment. The applicant should assess the greatest risks to the project and identify how the project parties will mitigate those risks. The USDOT will consider projects that contain risks, but expects the applicant to clearly and directly describe achievable mitigation strategies.

The applicant, to the extent it is unfamiliar with the Federal program, should contact USDOT modal field or headquarters offices as found at www.transportation.gov/FASTLANEgrants for information on what steps are pre-requisite to the obligation of Federal funds in order to ensure that their project schedule is reasonable and that there are no risks of delays in satisfying Federal requirements.

3. Unique Entity Identifier and System for Award Management (SAM)

Each applicant must: (1) Be registered in SAM before submitting its application; (2) provide a valid unique entity identifier in its application; and (3) continue to maintain an active SAM registration with current information at all times during which it has an active Federal award or an application or plan under consideration by a Federal awarding agency. The USDOT may not make a FASTLANE grant to an applicant until the applicant has complied with all applicable unique entity identifier and SAM requirements and, if an applicant has not fully complied with the requirements by the time USDOT is ready to make an FASTLANE grant, USDOT may determine that the applicant is not qualified to receive an FASTLANE grant and use that determination as a basis for making an FASTLANE grant to another applicant.

4. Submission Dates and Timelines

i. Deadline

Applications must be submitted by 8:00 p.m. EST on December 15, 2016. The Grants.gov “Apply” function will open by November 14, 2016. The Department has determined that an application deadline fewer than 60 days after this notice is published is appropriate because the accelerated timeline is necessary to satisfy the statutory 60-day Congressional notification requirement, as well as to ensure the timely obligation of available funds.

To submit an application through Grants.gov, applicants must:

a. Obtain a Data Universal Numbering System (DUNS) number:

b. Register with the System Award for Management (SAM) at www.sam.gov;

c. Create a Grants.gov username and password; and

d. The E-business Point of Contact (POC) at the applicant's organization must respond to the registration email from Grants.gov and login at Grants.gov to authorize the POC as an Authorized Organization Representative (AOR). Please note that there can only be one AOR per organization.

Please note that the Grants.gov registration process usually takes 2-4 weeks to complete and late applications that are the result of failure to register or comply with Grants.gov applicant requirements in a timely manner will not be considered. For information and instruction on each of these processes, please see instructions at http://www.grants.gov/web/grants/applicants/applicant-faqs.html. If interested parties experience difficulties at any point during the registration or application process, please call the Grants.gov Customer Service Support Hotline at 1 (800) 518-4726, Monday-Friday from 7:00 a.m. to 9:00 p.m. EST.

ii. Consideration of Application

Only applicants who comply with all submission deadlines described in this notice and submit applications through Grants.gov will be eligible for award. Applicants are strongly encouraged to make submissions in advance of the deadline.

iii. Late Applications

Applications received after the deadline will not be considered except in the case of unforeseen technical difficulties outlined in Section 4.iv.

iv. Late Application Policy

Applicants experiencing technical issues with Grants.gov that are beyond the applicant's control must contact FASTLANEgrants@dot.gov prior to the application deadline with the user name of the registrant and details of the technical issue experienced. The applicant must provide:

a. Details of the technical issue experienced;

b. Screen capture(s) of the technical issues experienced along with corresponding Grants.gov “Grant tracking number”;

c. The “Legal Business Name” for the applicant that was provided in the SF-424;

d. The AOR name submitted in the SF-424;

e. The DUNS number associated with the application; and

f. The Grants.gov Help Desk Tracking Number.

To ensure a fair competition of limited discretionary funds, the following conditions are not valid reasons to permit late submissions: (1) Failure to complete the registration process before the deadline; (2) failure to follow Grants.gov instructions on how to register and apply as posted on its Web site; (3) failure to follow all of the instructions in this notice of funding opportunity; and (4) technical issues experienced with the applicant's computer or information technology environment. After USDOT staff review all information submitted and contact the Grants.gov Help Desk to validate reported technical issues, USDOT staff will contact late applicants to approve or deny a request to submit a late application through Grants.gov. If the reported technical issues cannot be validated, late applications will be rejected as untimely.

E. Application Review Information

1. Criteria

i. Merit Criteria

For both large and small projects, the Department will consider the extent to which the project addresses the following criteria:

a. Economic Outcomes

Improving the efficiency and reliability of the surface transportation system at the regional or national level to increase the global economic competitiveness of the United States, including improving connectivity between freight modes of transportation, improving roadways vital to national energy security, facilitating freight movement across land border crossings, and addressing the impact of population growth on the movement of people and freight.

b. Mobility Outcomes

Improving the movement of people and goods by maintaining highways, bridges, and freight infrastructure in a state of good repair, enhancing the resiliency of critical surface transportation infrastructure, and significantly reducing highway congestion and bottlenecks.

c. Safety Outcomes

Achieving a significant reduction in traffic fatalities and serious injuries on the surface transportation system, as well as improving interactions between roadway users, reducing the likelihood of derailments or high consequence events, and improving safety in transporting certain types of commodities.

d. Community and Environmental Outcomes

How and whether the project mitigates harm to communities and the environment, extends benefits to the human and natural environment, or enhances personal mobility and accessibility. This includes reducing the negative effects of existing infrastructure, removing barriers, avoiding harm to the human and natural environment, and using design improvements to enhance access (where appropriate) and environmental quality for affected communities. Projects should also reflect meaningful community input provided during project development.

ii. Other Review Criteria

a. Partnership and Innovation

Demonstrating strong collaboration among a broad range of stakeholders or using innovative strategies to pursue primary outcomes listed above including efforts to reduce delivery delays. Additional consideration will be given for the use of innovative and flexible designs and construction techniques or innovative technologies.

b. Cost Share

FASTLANE grants must have one or more stable and dependable sources of funding and financing to construct, maintain, and operate the project, subject to the parameters in Section C.2. Applicants should provide sufficient information to demonstrate that the project cannot be easily and efficiently completed without other Federal funding or financial assistance available to the project sponsor. Additional consideration will be given to the use of nontraditional financing, as well as the use of non-Federal contributions. The Department may consider the form of cost sharing presented in an application. Firm commitments of cash that indicate a complete project funding package and demonstrate local support for the project are more competitive than other forms of cost sharing.

iii. Large/Small Project Requirements

For a large project to be selected, the Department must determine that the project generates national or regional economic, mobility, or safety benefits; is cost-effective; contributes to one or more of the goals described in 23 U.S.C 150; is based on the results of preliminary engineering; has one or more stable and dependable funding or financing sources available to construct, maintain, and operate the project, and contingency amounts are available to cover unanticipated cost increases; cannot be easily and efficiently completed without other Federal funding or financial assistance; and is reasonably expected to begin construction no later than 18 months after the date of obligation. These requirements have been translated into a question format in the table below. If you are applying for an award for a large project, use this section to provide specific evidence on how your project addresses these requirements, or refer to where the evidence can be found elsewhere in your application.

1. Does the project generate national or regional economic, mobility, safety benefits?

2. Is the project cost effective?

3. Does the project contribute to one or more of the Goals listed under 23 USC 150 (and shown below)?

(b) National Goals.—It is in the interest of the United States to focus the Federal-aid highway program on the following national goals:

(1) Safety.—To achieve a significant reduction in traffic fatalities and serious injuries on all public roads.

(2) Infrastructure condition.—To maintain the highway infrastructure asset system in a state of good repair.

(3) Congestion reduction.—To achieve a significant reduction in congestion on the NHS.

(4) System reliability.—To improve the efficiency of the surface transportation system.

(5) Freight movement and economic vitality.—To improve the national freight network, strengthen the ability of rural communities to access national and international trade markets, and support regional economic development.

(6) Environmental sustainability.—To enhance the performance of the transportation system while protecting and enhancing the natural environment.

(7) Reduced project delivery delays.—To reduce project costs, promote jobs and the economy, and expedite the movement of people and goods by accelerating project completion through eliminating delays in the project development and delivery process, including reducing regulatory burdens and improving agencies' work practices.

4. Is the project based on the results of preliminary engineering?

5a. With respect to non-federal financial commitments, does the project have one or more stable and dependable funding or financing sources to construct, maintain, and operate the project?

5b. Are contingency amounts available to cover unanticipated cost increases?

6. Is it the case that the project cannot be easily and efficiently completed without other federal funding or financial assistance available to the project sponsor?

7. Is the project reasonably expected to begin construction not later than 18 months after the date of obligation of funds for the project?

In responding to the Large Project Requirements, here are some guidelines which may assist you in completing your application:

—National or regional economic, mobility, and safety benefits, as well as a contribution to national goals, are often demonstrated in the Merit Criteria section of the application.

—NEPA completion is a sufficient indication the project is based on the results of preliminary engineering. For more information on preliminary engineering activities, please see: https://www.fhwa.dot.gov/federalaid/150311.cfm.

—Historical trends, current policy, or future feasibility analyses can be used as evidence to substantiate the stable and dependable nature of the non-federal funding or financing committed to the project construction, operation, and maintenance.

—Contingency amounts are often, but not always, expressly shown in project budgets or the SF-424C. If your project cost estimates include an implicit contingency calculation, please say so directly.

—Discussing the impact that not having any federal funding, including a FASTLANE grant, would have on project's schedule, cost, or likelihood of completion, can help convey whether a project can be completed as easily or efficiently without federal funding available to the project sponsor.

2. For a small project to be selected, the Department must consider the cost effectiveness of the proposed project and the effect of the proposed project on mobility in the State and region in which the project is carried out. If you are applying for an award for a small project, use this section to provide specific evidence on how your project addresses these requirements, or refer to where the evidence can be found elsewhere in your application.

3. Review and Selection Process

i. USDOT Review

The USDOT will review all eligible applications received before the application deadline. The FASTLANE process consists of a Technical Evaluation phase and Senior Review. In the Technical Evaluation phase teams will, for each project, determine whether the project satisfies statutory requirements and rate how well it addresses selection criteria. The Senior Review Team will consider the applications and the technical evaluations to determine which projects to advance to the Secretary for consideration. Evaluations in both the Technical Evaluation and Senior Review Team phases will place projects into rating categories, not assign numerical scores. The Secretary will select the projects for award. A Quality Control and Oversight Team will ensure consistency across project evaluations and appropriate documentation throughout the review and selection process. The FAST Act requires Congressional notification, in writing, at least 60 days before making a FASTLANE grant.

4. Additional Information

Prior to award, each selected applicant will be subject to a risk assessment required by 2 CFR 200.205. The Department must review and consider any information about the applicant that is in the designated integrity and performance system accessible through SAM (currently the Federal Awardee Performance and Integrity Information System (FAPIIS)). An applicant may review information in FAPIIS and comment on any information about itself. The Department will consider comments by the applicant in addition to the other information in FAPIIS, in making a judgment about the applicant's integrity, business ethics, and record of performance under Federal awards when completing the review of risk posed by applicants.

F. Federal Award Administration Information

1. Federal Award Notices

Following the evaluation outlined in Section E, the Secretary will announce awarded projects by posting a list of selected projects at https://www.transportation.gov/buildamerica/FASTLANEgrants. Following the announcement, the Department will contact the point of contact listed in the SF 424 to initiate negotiation of a project specific agreement.

2. Administrative and National Policy Requirements

All awards will be administered pursuant to the Uniform Administrative Requirements, Cost Principles and Audit Requirements for Federal Awards found in 2 CFR part 200, as adopted by USDOT at 2 CFR part 1201. Additionally, applicable Federal laws, rules and regulations of the relevant modal administration administering the project will apply to the projects that receive FASTLANE grants, including planning requirements, Stakeholder Agreements, Buy America compliance, and other requirements under USDOT's other highway, transit, rail, and port grant programs. A project carried out under this FASTLANE program will be treated as if the project is located on a Federal-aid highway. For an illustrative list of the applicable laws, rules, regulations, executive orders, policies, guidelines, and requirements as they relate to an FASTLANE, please see http://www.ops.fhwa.dot.gov/Freight/infrastructure/nsfhp/fy2016_gr_exhbt_c/index.htm.

3. Reporting

i. Progress Reporting on Grant Activity

Each applicant selected for an FASTLANE grant must submit the Federal Financial Report (SF-425) on the financial condition of the project and the project's progress, as well as an Annual Budget Review and Program Plan to monitor the use of Federal funds and ensure accountability and financial transparency in the FASTLANE program.

ii. Reporting of Matters Related to Integrity and Performance

If the total value of a selected applicant's currently active grants, cooperative agreements, and procurement contracts from all Federal awarding agencies exceeds $10,000,000 for any period of time during the period of performance of this Federal award, then the applicant during that period of time must maintain the currency of information reported to the System for Award Management (SAM) that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice, please contact the Office of the Secretary via email at FASTLANEgrants@dot.gov. For more information about highway projects, please contact Crystal Jones at (202) 366-2976. For more information about maritime projects, please contact Robert Bouchard at (202) 366-5076. For more information about rail projects, please contact Stephanie Lawrence at (202) 493-1376. For more information about railway-highway grade crossing projects, please contact Karen McClure at (202) 493-6417. For all other questions, please contact Howard Hill at (202) 366-0301. A TDD is available for individuals who are deaf or hard of hearing at 202-366-3993. In addition, up to the application deadline, USDOT will post answers to common questions and requests for clarifications on USDOT's Web site at https://www.transportation.gov/buildamerica/FASTLANEgrants. To ensure applicants receive accurate information about eligibility or the program, the applicant is encouraged to contact USDOT directly, rather than through intermediaries or third parties, with questions.

H. Other Information

1. Invitation for Public Comment on the FY 2017 Notice

The FAST Act authorized the FASTLANE program through FY 2020. This notice solicits applications for FY2017 only. The Department invites interested parties to submit comments about this notice's contents, the Department's implementation choices, as well as suggestions for clarification in future FASTLANE rounds. The Department may consider the submitted comments and suggestions when developing subsequent FASTLANE solicitations and guidance, but submitted comments will not affect the selection criteria for the FY 2017 round. Applications or comments about specific projects should not be submitted to the docket. Any application submitted to the docket will not be reviewed. Comments should be sent DOT-OST-2016-0016 by December 31, 2016, but, to the extent practicable, the Department will consider late filed comments.

2. Response to Comments on the FY 2016 Notice

The Department received four comments in response to the FY16 Notice of Funding Opportunity, published under docket DOT-OST-2016-0022. The Department appreciates the feedback from our stakeholders.

Two commenters addressed USDOT's intent to prioritize projects that enhance personal mobility and accessibility.⁹ Congress established multiple goals for the FASTLANE discretionary grant program, including the improvement of the safety, efficiency, and reliability of movement of both people and freight. It is the view of USDOT that considering the impact that transportation projects have on personal mobility and accessibility, particularly of disadvantaged groups, is entirely compatible with the goals of the program.

⁹ https://www.regulations.gov/document?D=DOT-OST-2016-0022-0005; https://www.regulations.gov/document?D=DOT-OST-2016-0022-0006.

Another goal for the program which was incorporated into USDOT's evaluation was the reduction of highway congestion and bottlenecks, including bottlenecks similar to the “Missing Links” described by one commenter.¹⁰

¹⁰ https://www.regulations.gov/document?D=DOT-OST-2016-0022-0003.

Two commenters requested that the USDOT publish a full list of applications for FASTLANE funding.¹¹ USDOT has published such a list at https://www.transportation.gov/buildamerica/FASTLANEgrants.

¹¹ https://www.regulations.gov/document?D=DOT-OST-2016-0022-0005; https://www.regulations.gov/document?D=DOT-OST-2016-0022-0006.

Finally, one commenter encouraged DOT to change the population eligibility criteria for Metropolitan Planning Organizations.¹² Under 23 U.S.C. 117(c)(1)(B), an MPO that serves an urbanized area with a population of more than 200,000 is an eligible applicant, and DOT lacks discretion to change that statutory threshold. However, if an MPO is organized as a unit of local government or a political subdivision of a State or local government, then that MPO satisfies other eligibility criteria and the size of the urbanized area that it serves does not affect eligibility.

¹² https://www.regulations.gov/document?D=DOT-OST-2016-0022-0002.

3. Protection of Confidential Business Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The USDOT protects such information from disclosure to the extent allowed under applicable law. In the event USDOT receives a Freedom of Information Act (FOIA) request for the information, USDOT will follow the procedures described in its FOIA regulations at 49 CFR 7.17. Only information that is ultimately determined to be confidential under that procedure will be exempt from disclosure under FOIA.

Following the completion of the selection process and announcement of awards, the Department intends to publish a list of all applications received along with the names of the applicant organizations and funding amounts requested.

Issued On: October 28, 2016.
Blair C. Anderson,
Under Secretary.

[FR Doc. 2016-26496 Filed 11-2-16; 8:45 am]

BILLING CODE 4910-9X-P